DEPARTMENT OF THE INTERIOR

Bureau of Land Management

[LLWYD04000-L51010000-ER0000-LVRWK16K1600 16X]

Notice of Availability of the Final Environmental Impact Statement for the Riley Ridge to Natrona Project, Wyoming

AGENCY: Bureau of Land Management, Interior.

ACTION: Notice of availability.

SUMMARY: In accordance with the National Environmental Policy Act of 1969 (NEPA), as amended, and the Mineral Leasing Act of 1920, as amended, and the Federal Land Policy and Management Act of 1976 (FLPMA), the Bureau of Land Management (BLM) Rock Springs Field Office has prepared a final Environmental Impact Statement (EIS) for the Riley Ridge to Natrona Project (RRNP or Project) and by this notice announces a 30-day availability period before making any final decisions.

DATES: The BLM will not issue a final decision on the proposal for a minimum of 30 days after the date on which the Environmental Protection Agency (EPA) publishes its Notice of Availability (NOA) of the final EIS in the Federal Register.

ADDRESSES: Copies of the final EIS have been sent to affected Federal, State, and local governments; public libraries in the Project area; and interested parties that previously requested a copy. The final EIS and other supporting documents will be available electronically on the following BLM website: https://go.usa.gov/xPfkk.

FOR FURTHER INFORMATION CONTACT: Mark Mackiewicz, BLM Senior National Project Manager, telephone 435-636-3616; address 280 Highway 191 North, Rock Springs, Wyoming 82901; email BLM_WY_RRNP@blm.gov.

Persons who use a telecommunications device for the deaf (TDD) may call the Federal Relay Service (FRS) at 1-800-877-8339 to speak with Mr. Mackiewicz during normal business hours. The FRS is available 24 hours a day, 7 days a week, to leave a message or question for the above individual. You will receive a reply during normal business hours.

SUPPLEMENTARY INFORMATION: The BLM is responding to four applications for right-of-way grants submitted by Denbury Green Pipeline-Riley Ridge, LLC (Denbury) and PacifiCorp, doing business as Rocky Mountain Power (collectively referred to as the Applicant), to the BLM for the Project. Denbury submitted an “Application for Transportation and Utility Systems and Facilities on Federal Lands” (Standard Form 299) to the BLM for two underground pipeline projects: (1) The Riley Ridge Carbon Dioxide (CO2) Pipeline Project (WYW-167867) and (2) the Bairoil to Natrona CO2 Pipeline Project (WYW-168290). In addition, Denbury has proposed two hydrogen sulfide (H2S) injection wells (WYW-181373) to be sited near the proposed Riley Ridge Sweetening Plant, which is included in the Riley Ridge CO2 Pipeline Project application. PacifiCorp submitted an application for a right-of-way for a 230-kilovolt (kV) transmission line (WYW-185369) to supply energy to the Riley Ridge Sweetening Plant. The applications for right-of-way grants for Denbury's Proposed Action were submitted to the BLM on February 19, 2013 (Denbury), and January 25, 2016 (PacifiCorp); the proposal for the injection wells was submitted to the BLM on September 12, 2013. Collectively, the Project consists of the following components (as proposed):

• An underground non-gaseous H2S/CO2 pipeline from the existing Riley Ridge Treating Plant (a methane and helium recovery facility) to the proposed Riley Ridge Sweetening Plant, consisting of 31 miles of 16-inch-diameter pipe within Sublette County;

• A CO2 underground pipeline from the proposed Riley Ridge Sweetening Plant to the Bairoil Interconnect, consisting of 129 miles of 24-inch-diameter pipe, and continuing from the interconnect another 84 miles to the terminus at the Natrona Hub within Natrona County;

• The 4.3-acre proposed Riley Ridge Sweetening Plant, located on BLM-administered lands, constructed and operated to separate the CO2 from the H2S; the H2S would be reinjected into deep geologic formations via two proposed injection wells;

• An approximately 1-mile-long 230 kV overhead transmission line that would bring power to the Riley Ridge Sweetening Plant from an existing 230 kV transmission line; and

• Ancillary facilities, such as roads, valves, flowlines, etc.

The purpose of this Federal action is to respond to the Applicant's right-of-way applications for construction, operation, and maintenance of the Project infrastructure across Federal land. Section 28 of the Mineral Leasing Act of 1920 provides authority for BLM to issue right-of-way grants for pipeline purposes, and FLPMA provides the BLM with discretionary authority to grant use of public lands, including rights-of-way, taking into consideration impacts on natural, cultural, and historical resources.

The BLM is the lead Federal agency for this EIS as defined at 40 CFR part 1501.5. Cooperating agencies include U.S. Fish and Wildlife Service, National Park Service, U.S. Army Corps of Engineers; the State of Wyoming; Freemont, Lincoln, Sublette, Sweetwater, and Natrona counties in Wyoming; and the Natrona County, Popo Agie, Sublette County, and Sweetwater County conservation districts in Wyoming.

In accordance with NEPA, the BLM prepared an EIS analyzing the right-of-way applications using an interdisciplinary approach to consider a variety of resource issues and concerns identified during internal, interagency, and public scoping. The BLM published a NOA of the Draft EIS for public review and comment in the Federal Register on March 23, 2018 (83 FR 12810). The EPA published a NOA of the Draft EIS for public review and comment in the Federal Register on the same day, which initiated a 45-day public review period.

To allow the public an opportunity to review information associated with the Project and comment on the Draft EIS, the BLM hosted four public meetings in April 2018. The public meetings on the Draft EIS were held from 4 to 7 p.m. at the following locations:

April 9—Ramada Plaza Riverside, 300 West F Street, Casper, Wyoming

April 10—Rodeway Inn/Pronghorn Lodge, 150 East Main Street, Lander, Wyoming

April 11—Marbleton Town Hall, 10700 Highway 189, Marbleton, Wyoming

April 12—BLM High Desert District Office, 280 Highway 191 North, Rock Springs, Wyoming

During the 45-day comment period, 19 submittals offering comments on the Draft EIS were received from various federal, State, and local agencies; various special interest groups; corporations; and public citizens. This included 14 letters, 3 comment forms, and 2 emails with comments submitted at the public open house meetings and mailed to the BLM. In compliance with the requirements of the Council on Environmental Quality regulations for implementing NEPA, all substantive comments received were assessed and a response provided. Of the 19 comment submittals received, 70 comments were identified as substantive according to BLM guidelines.

The BLM responded to comments received on the draft EIS in the final EIS. After the final waiting period, and based on the environmental analysis in the final EIS, the BLM will prepare a Record of Decision documenting the BLM Authorized Officer's decision.

Authority: 40 CFR 1501.7 and 43 CFR 1610.2.

Tim Wakefield,
High Desert District Manager.

[FR Doc. 2018-27154 Filed 12-13-18; 8:45 am]

BILLING CODE 4310-22-P